DEPARTMENT OF THE INTERIOR

Fish and Wildlife Service

[FWS-R8-ES-2019-N134; FXES11130800000-190-FF08E00000]

Endangered and Threatened Wildlife and Plants; Initiation of 5-Year Status Reviews of 66 Species in California and Nevada

AGENCY: Fish and Wildlife Service, Interior.

ACTION: Notice of initiation of reviews; request for information.

SUMMARY: We, the U.S. Fish and Wildlife Service, are initiating 5-year status reviews of 66 species in California and Nevada under the Endangered Species Act. A 5-year review is based on the best scientific and commercial data available at the time of the review; therefore, we are requesting submission of any new information on these species that has become available since the last review.

DATES: To ensure consideration in our reviews, we are requesting submission of new information no later than March 27, 2020. However, we will continue to accept new information about any species at any time.

ADDRESSES: For how and where to submit information or questions, see Request for New Information.

FOR FURTHER INFORMATION CONTACT: For general questions, please contact Peter Erickson, 916-414-6741. For whom to contact with species-specific information or questions, see Request for New Information.

Individuals who are hearing impaired or speech impaired may call the Federal Relay Service at 800-877-8337 for TTY assistance.

SUPPLEMENTARY INFORMATION:

Why do we conduct 5-year reviews?

Under the Endangered Species Act of 1973, as amended (Act; 16 U.S.C. 1531 et seq.), we maintain lists of endangered and threatened wildlife and plant species (referred to as the List) in the Code of Federal Regulations (CFR) at 50 CFR 17.11 (for wildlife) and 17.12 (for plants). Section 4(c)(2)(A) of the Act requires us to review each listed species' status at least once every 5 years. For additional information about 5-year reviews, refer to our factsheet at http://www.fws.gov/endangered/what-we-do/recovery-overview.html.

What information do we consider in our review?

A 5-year review considers all new information available at the time of the review. In conducting these reviews, we consider the best scientific and commercial data that have become available since the listing determination or most recent status review, such as:

(A) Species biology, including but not limited to population trends, distribution, abundance, demographics, and genetics;

(B) Habitat conditions, including but not limited to amount, distribution, and suitability;

(C) Conservation measures that have been implemented to benefit the species;

(D) Threat status and trends in relation to the five listing factors (as defined in section 4(a)(1) of the Act); and

(E) Other new information, data, or corrections, including but not limited to taxonomic or nomenclatural changes, identification of erroneous information contained in the List, and improved analytical methods.

Any new information will be considered during the 5-year review and will also be useful in evaluating the ongoing recovery programs for the species.

Which species are under review?

This notice announces our active review of the species listed in the table below.

Common name | Scientific name | Status | Locations where the species is known to occur | Final listing rule (Federal Register citation and publication date) | Lead Fish and Wildlife office
Animals
Beetle, Casey's June | Dinacoma caseyi | E | CA | 76 FR 58954; 10/24/2011 | Carlsbad Fish and Wildlife Office.
Butterfly, El Segundo blue | Euphilotes battoides allyni | E | CA | 41 FR 22041; 6/1/1976 | Carlsbad Fish and Wildlife Office.
Butterfly, Palos Verdes blue | Glaucopsyche lygdamus palosverdesensis | E | CA | 45 FR 44939; 7/2/1980 | Carlsbad Fish and Wildlife Office.
Fairy shrimp, Riverside | Streptocephalus woottoni | E | CA, Mexico | 58 FR 41384; 8/3/1993 | Carlsbad Fish and Wildlife Office.
Fairy shrimp, San Diego | Branchinecta sandiegonensis | E | CA, Mexico | 62 FR 4925; 2/3/1997 | Carlsbad Fish and Wildlife Office.
Fly, Delhi Sands flower-loving | Rhaphiomidas terminatus abdominalis | E | CA | 58 FR 49881; 9/23/1993 | Carlsbad Fish and Wildlife Office.
Gnatcatcher, coastal California | Polioptila californica californica | T | CA, Mexico | 58 FR 16742; 3/30/1993 | Carlsbad Fish and Wildlife Office.
Salamander, desert slender | Batrachoseps aridus | E | CA | 38 FR 14678; 6/4/1973 | Carlsbad Fish and Wildlife Office.
Sheep, Peninsular bighorn | Ovis canadensis nelsoni | E | CA, Mexico | 63 FR 13134; 3/18/1998 | Carlsbad Fish and Wildlife Office.
Shrike, San Clemente loggerhead | Lanius ludovicianus mearnsi | E | CA | 42 FR 40682; 8/11/1977 | Carlsbad Fish and Wildlife Office.
Sparrow, San Clemente sage | Amphispiza belli clementeae | T | CA | 42 FR 40682; 8/11/1977 | Carlsbad Fish and Wildlife Office.
Springfish, Railroad Valley | Crenichthys nevadae | T | NV | 51 FR 10857; 3/31/1986 | Reno Fish and Wildlife Office.
Beetle, delta green ground | Elaphrus viridis | T | CA | 45 FR 52807; 8/8/1980 | Sacramento Fish and Wildlife Office.
Beetle, valley elderberry longhorn | Desmocerus californicus dimorphus | T | CA | 45 FR 52803; 8/8/1980 | Sacramento Fish and Wildlife Office.
Butterfly, bay checkerspot | Euphydryas editha bayensis | T | CA | 52 FR 35366; 9/18/1987 | Sacramento Fish and Wildlife Office.
Butterfly, callippe silverspot | Speyeria callippe callippe | E | CA | 62 FR 64306; 12/5/1997 | Sacramento Fish and Wildlife Office.
Butterfly, mission blue | Icaricia icarioides missionensis | E | CA | 41 FR 22041; 6/1/1976 | Sacramento Fish and Wildlife Office.
Butterfly, Myrtle's silverspot | Speyeria zerene myrtleae | E | CA | 57 FR 27848; 6/22/1992 | Sacramento Fish and Wildlife Office.
Butterfly, San Bruno elfin | Callophrys mossii bayensis | E | CA | 41 FR 22041; 6/1/1976 | Sacramento Fish and Wildlife Office.
Frog, mountain yellow-legged | Rana muscosa | E | CA | 67 FR 44382; 4/29/2014 | Sacramento Fish and Wildlife Office.
Frog, Sierra Nevada yellow-legged | Rana sierrae | E | CA, NV | 79 FR 24255; 4/29/2014 | Sacramento Fish and Wildlife Office.
Salamander, California tiger | Ambystoma californiense | E | CA | 79 FR 24255; 7/22/2002 | Sacramento Fish and Wildlife Office.
Salamander, California tiger | Ambystoma californiense | T | CA | 69 FR 47212; 8/4/2004 | Sacramento Fish and Wildlife Office.
Toad, Yosemite | Anaxyrus canorus | T | CA | 79 FR 24255; 4/29/2014 | Sacramento Fish and Wildlife Office.
Spinedace, Big Spring | Lepidomeda mollispinis pratensis | T | NV | 50 FR 12298; 3/28/1985 | Southern Nevada Fish and Wildlife Office.
Spinedace, White River | Lepidomeda albivallis | E | NV | 50 FR 37194; 9/12/1985 | Southern Nevada Fish and Wildlife Office.
Beetle, Mount Hermon June | Polyphylla barbata | E | CA | 62 FR 3616; 1/24/1997 | Ventura Fish and Wildlife Office.
Grasshopper, Zayante band-winged | Trimerotropis infantilis | E | CA | 62 FR 3616; 1/24/1997 | Ventura Fish and Wildlife Office.
Kangaroo rat, Morro Bay | Dipodomys heermanni morroensis | E | CA | 35 FR 16047; 10/13/1970 | Ventura Fish and Wildlife Office.
Stickleback, unarmored threespine | Gasterosteus aculeatus williamsoni | E | CA | 35 FR 16047; 10/13/1970 | Ventura Fish and Wildlife Office.
Plants
Ambrosia, San Diego | Ambrosia pumila | E | CA, Mexico | 67 FR 44372; 7/2/2002 | Carlsbad Fish and Wildlife Office.
Baccharis, Encinitas | Baccharis vanessae | T | CA | 61 FR 52370; 10/7/1996 | Carlsbad Fish and Wildlife Office.
Barberry, Nevin's | Berberis nevinii | E | CA | 63 FR 54956; 10/13/1998 | Carlsbad Fish and Wildlife Office.
Ceanothus, Vail Lake | Ceanothus ophiochilus | T | CA | 63 FR 54956; 10/13/1998 | Carlsbad Fish and Wildlife Office.
Checker-mallow, pedate | Sidalcea pedata | E | CA | 49 FR 34497; 8/31/1984 | Carlsbad Fish and Wildlife Office.
Crownscale, San Jacinto Valley | Atriplex coronata var. notatior | E | CA | 63 FR 54975; 10/13/1998 | Carlsbad Fish and Wildlife Office.
Liveforever, Laguna Beach | Dudleya stolonifera | T | CA | 63 FR 54938; 10/13/1998 | Carlsbad Fish and Wildlife Office.
Mountain-mahogany, Catalina Island | Cercocarpus traskiae | E | CA | 62 FR 42692; 8/8/1997 | Carlsbad Fish and Wildlife Office.
Mustard, slender-petaled | Thelypodium stenopetalum | E | CA | 49 FR 34497; 8/31/1984 | Carlsbad Fish and Wildlife Office.
Paintbrush, ash-grey | Castilleja cinerea | T | CA | 63 FR 49006; 9/14/1998 | Carlsbad Fish and Wildlife Office.
Sandwort, Bear Valley | Arenaria ursina | T | CA | 63 FR 49006; 9/14/1998 | Carlsbad Fish and Wildlife Office.
Spineflower, Orcutt's | Chorizanthe orcuttiana | E | CA | 61 FR 52370; 10/7/1996 | Carlsbad Fish and Wildlife Office.
Taraxacum, California | Taraxacum californicum | E | CA | 63 FR 49006; 9/14/1998 | Carlsbad Fish and Wildlife Office.
Ceanothus, coyote | Ceanothus ferrisae | E | CA | 60 FR 6671; 2/3/1995 | Sacramento Fish and Wildlife Office.
Dudleya, Santa Clara Valley | Dudleya setchellii | E | CA | 60 FR 6671; 2/3/1995 | Sacramento Fish and Wildlife Office.
Dwarf-flax, Marin | Hesperolinon congestum | T | CA | 60 FR 6671; 2/3/1995 | Sacramento Fish and Wildlife Office.
Fiddleneck, large-flowered | Amsinckia grandiflora | E | CA | 50 FR 19374; 5/8/1985 | Sacramento Fish and Wildlife Office.
Jewelflower, Metcalf Canyon | Streptanthus albidus ssp. albidus | E | CA | 60 FR 6671; 2/3/1995 | Sacramento Fish and Wildlife Office.
Jewelflower, Tiburon | Streptanthus niger | E | CA | 60 FR 6671; 2/3/1995 | Sacramento Fish and Wildlife Office.
Mariposa lily, Tiburon | Calochortus tiburonensis | T | CA | 60 FR 6671; 2/3/1995 | Sacramento Fish and Wildlife Office.
Paintbrush, Tiburon | Castilleja affinis ssp. neglecta | E | CA | 60 FR 6671; 2/3/1995 | Sacramento Fish and Wildlife Office.
Pentachaeta, white-rayed | Pentachaeta bellidiflora | E | CA | 60 FR 6671; 2/3/1995 | Sacramento Fish and Wildlife Office.
Sunflower, San Mateo woolly | Eriophyllum latilobum | E | CA | 60 FR 6671; 2/3/1995 | Sacramento Fish and Wildlife Office.
Thistle, fountain | Cirsium fontinale var. fontinale | E | CA | 60 FR 6671; 2/3/1995 | Sacramento Fish and Wildlife Office.
Thornmint, San Mateo | Acanthomintha obovata ssp. duttonii | E | CA | 50 FR 37858; 9/18/1985 | Sacramento Fish and Wildlife Office.
Evening-primrose, Antioch Dunes | Oenothera deltoides ssp. howellii | E | CA | 43 FR 17910; 4/26/1978 | San Francisco Bay-Delta Fish and Wildlife.
Wallflower, Contra Costa | Erysimum capitatum var. angustatum | E | CA | 43 FR 17910; 4/26/1978 | San Francisco Bay-Delta Fish and Wildlife.
Bush-mallow, Santa Cruz Island | Malacothamnus fasciculatus var. nesioticus | E | CA | 62 FR 40954; 7/31/1997 | Ventura Fish and Wildlife Office.
Cypress, Gowen | Cupressus goveniana ssp. goveniana | T | CA | 63 FR 43100; 8/12/1998 | Ventura Fish and Wildlife Office.
Dudleya, Santa Monica Mountains | Dudleya cymosa ssp. ovatifolia | T | CA | 62 FR 4172; 1/29/1997 | Ventura Fish and Wildlife Office.
Liveforever, Santa Barbara Island | Dudleya traskiae | E | CA | 43 FR 17910; 4/26/1978 | Ventura Fish and Wildlife Office.
Manzanita, Santa Rosa Island | Arctostaphylos confertiflora | E | CA | 62 FR 40954; 7/31/1997 | Ventura Fish and Wildlife Office.
Monkeyflower, Vandenberg | Diplacus vandenbergensis | E | CA | 79 FR 50844; 8/26/2014 | Ventura Fish and Wildlife Office.
Phacelia, island | Phacelia insularis ssp. insularis | E | CA | 62 FR 40954; 7/31/1997 | Ventura Fish and Wildlife Office.
Piperia, Yadon's | Piperia yadonii | E | CA | 63 FR 43100; 8/12/1998 | Ventura Fish and Wildlife Office.
Yerba santa, Lompoc | Eriodictyon capitatum | E | CA | 65 FR 14888; 3/20/2000 | Ventura Fish and Wildlife Office.

Request for New Information

To ensure that a 5-year review is complete and based on the best available scientific and commercial information, we request new information from all sources. See What Information Do We Consider in Our Review? for specific criteria. If you submit information, please support it with documentation such as maps, bibliographic references, methods used to gather and analyze the data, and/or copies of any pertinent publications, reports, or letters by knowledgeable sources.

To get more information on a species, submit information on a species, or review information we receive, please use the contact information for the Lead Fish and Wildlife Office for the species specified in the table above.

Carlsbad Fish and Wildlife Office: Bradd Baskerville-Bridges, 760-431-9440 (phone); fw8cfwocomments@fws.gov (email); or 2177 Salk Avenue, Suite 250, Carlsbad, CA 92008 (U.S. mail, hand-delivery, or in-person review of documents).

Reno Fish and Wildlife Office: Shawna Theisen, 775-861-6378 (phone); shawna_theisen@fws.gov (email); or 1340 Financial Boulevard, Suite 234, Reno, NV 89502 (U.S. mail, hand-delivery, or in-person review of documents).

Sacramento Fish and Wildlife Office: Josh Hull, 916-414-6742 (phone); fw8sfwocomments@fws.gov (email); or 2800 Cottage Way, Suite W2605, Sacramento, CA 95825 (U.S. mail, hand-delivery, or in-person review of documents).

San Francisco Bay-Delta Fish and Wildlife Office: Steven Detwiler, 916-930-2640 (phone); steven_detwiler@fws.gov (email); or 650 Capitol Mall, Sacramento, CA 95814 (U.S. mail, hand-delivery, or in-person review of documents).

Southern Nevada Fish and Wildlife Office: Glen Knowles, 702-515-5244 (phone); glen_knowles@fws.gov (email); or 4701 N Torrey Pines Dr., Las Vegas, NV 89130 (U.S. mail, hand-delivery, or in-person review of documents).

Ventura Fish and Wildlife Office: Cat Darst, 805-677-3318 (phone); cat_darst@fws.gov (email); or 2493 Portola Road, Suite B, Ventura CA 93003 (U.S. mail, hand-delivery, or in-person review of documents).

Public Availability of Comments

Before including your address, phone number, email address, or other personal identifying information in your comment, you should be aware that your entire comment—including your personal identifying information—may be made publicly available at any time. While you can ask us in your comment to withhold your personal identifying information from public review, we cannot guarantee that we will be able to do so.

Comments and materials received will be available for public inspection, by appointment, during normal business hours at the offices to which the comments are submitted.

Authority

This document is published under the authority of the Endangered Species Act of 1973, as amended (16 U.S.C. 1531 et seq.).

Michael Fris,
Acting Deputy Regional Director, Pacific Southwest Region, U.S. Fish and Wildlife Service.

[FR Doc. 2020-01323 Filed 1-24-20; 8:45 am]

BILLING CODE 4333-15-P